DEPARTMENT OF TRANSPORTATION

Federal Aviation Administration

14 CFR Part 39

[Docket No. FAA-2011-0477; Directorate Identifier 2011-NM-108-AD; Amendment 39-16735; AD 2011-12-51]

RIN 2120-AA64

Airworthiness Directives; Dassault Aviation Model FALCON 7X Airplanes

AGENCY: Federal Aviation Administration (FAA), DOT.

ACTION: Final rule; request for comments.

SUMMARY: We are adopting a new airworthiness directive (AD) for the products listed above. This emergency AD was sent previously to all known U.S. owners and operators of these airplanes. This AD requires that, as of the effective date of the AD, operation of Model FALCON 7X airplanes is prohibited. This AD was prompted by a report of an uncontrolled pitch trim runaway during descent. We are issuing this AD to prevent loss of control of the airplane.

DATES: This AD is effective July 12, 2011 to all persons except those persons to whom it was made immediately effective by Emergency AD 2011-12-51, issued on May 27, 2011, which contained the requirements of this amendment.

We must receive comments on this AD by August 11, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; phone: 425-227-1137; fax: 425-227-1149.

SUPPLEMENTARY INFORMATION:

Discussion

On May 27, 2011, we issued Emergency AD 2011-12-51, which requires that, as of receipt of the AD, operation of Model FALCON 7X airplanes is prohibited.

The European Aviation Safety Agency (EASA), which is the Technical Agent for the Member States of the European Community, has issued Emergency Airworthiness Directive 2011-0102-E, dated May 26, 2011 (referred to after this as “the MCAI”), to correct an unsafe condition for the specified products.

EASA has advised that a Model FALCON 7X airplane experienced an uncontrolled pitch trim runaway during descent. The crew succeeded in recovering a stable situation and performed an uneventful landing. Analysis of the Digital Flight Data Recorder (DFDR) and Fault History Database (FHDB) confirmed the event, but did not identify the cause of the pitch trim runaway. This condition, if not corrected, could result in loss of control of the airplane.

To address this unsafe condition, the EASA AD prohibits, from the effective date of the EASA AD, any flight operations of FALCON 7X airplanes.

FAA's Determination

This product has been approved by the aviation authority of another country, and is approved for operation in the United States. Pursuant to our bilateral agreement with the State of Design Authority, we have been notified of the unsafe condition described in the MCAI referenced above. We are issuing this AD because we evaluated all pertinent information and determined the unsafe condition exists and is likely to exist or develop on other products of the same type design.

AD Requirements

This AD requires that, as of effective date of the AD, operation of Model FALCON 7X airplanes is prohibited.

Interim Action

We consider this AD interim action pending the outcome of the investigation currently being carried out by the manufacturer. We may consider further rulemaking when additional information is available.

FAA's Determination of the Effective Date

An unsafe condition exists that requires the immediate adoption of this AD. The FAA has found that the risk to the flying public justifies waiving notice and comment prior to adoption of this rule because an uncontrolled pitch trim runaway during descent could result in loss of control of the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-0477 and Directorate Identifier 2011-NM-108-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 26 airplanes of U.S. registry. There are no costs associated with complying with this AD.

Authority for this Rulemaking

Title 49 of the United States Code specifies the FAA's authority to issue rules on aviation safety. Subtitle I, section 106, describes the authority of the FAA Administrator. Subtitle VII: Aviation Programs describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-12-51 Dassault Aviation: Amendment 39-16735; Docket No. FAA-2011-0477; Directorate Identifier 2011-NM-108-AD.

Effective Date

(a) This AD is effective July 12, 2011 to all persons except those persons to whom it was made immediately effective by Emergency AD 2011-12-51, issued on May 27, 2011, which contained the requirements of this amendment.

Affected ADs

(b) None.

Applicability

(c) This AD applies to Dassault Aviation Model FALCON 7X airplanes, certificated in any category, all serial numbers.

Subject

(d) Joint Aircraft System Component (JASC)/Air Transport Association (ATA) of America Code 27: Flight controls.

Unsafe Condition

(e) This AD was prompted by a report of an uncontrolled pitch trim runaway during descent. We are issuing this AD to prevent loss of control of the airplane.

Compliance

(f) Comply with this AD within the compliance times specified, unless already done.

Flight Prohibited

(g) As of the effective date of this AD, operation of the airplane is prohibited.

Special Flight Permit

(h) Special flight permits, as described in Section 21.197 and Section 21.199 of the Federal Aviation Regulations (14 CFR 21.197 and 21.199), are not allowed.

Alternative Methods of Compliance (AMOCs)

(i)(1) The Manager, International Branch, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in the Related Information section of this AD. Information may be e-mailed to: 9-ANM-116-AMOC-REQUESTS@faa.gov.

(2) Before using any approved AMOC, notify your appropriate principal inspector, or lacking a principal inspector, the manager of the local flight standards district office/certificate holding district office.

Related Information

(j)(1) For further information about this AD, contact Tom Rodriguez, Aerospace Engineer, International Branch, ANM-116, Transport Airplane Directorate, FAA, 1601 Lind Avenue, SW., Renton, Washington 98057-3356; phone: 425-227-1137; fax: 425-227-1149.

(2) Refer to MCAI European Aviation Safety Agency (EASA) Emergency Airworthiness Directive 2011-0102-E, dated May 26, 2011, for related information.

Material Incorporated by Reference

(k) None.

Issued in Renton, Washington, on June 16, 2011.
Ali Bahrami,
Manager, Transport Airplane Directorate, Aircraft Certification Service.

[FR Doc. 2011-15989 Filed 6-24-11; 8:45 am]

BILLING CODE 4910-13-P